DEPARTMENT OF HEALTH AND HUMAN SERVICES

Food and Drug Administration

[Docket Nos. FDA-2019-N-3657; FDA-2019-N-6085; FDA-2017-N-6381; FDA-2017-N-0084; FDA-2013-N-0731; FDA-2019-N-5971; FDA-2014-N-1021; and FDA-2019-N-3018]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control number | Date approval expires
Accreditation Scheme for Conformity Assessment Pilot Program | 0910-0889 | 6/30/2023
General Administrative Practice and Procedures | 0910-0191 | 7/31/2023
Records and Reports Concerning Experience With Approved New Animal Drugs | 0910-0284 | 7/31/2023
Adverse Event Program for Medical Devices (Medical Product Safety Network | 0910-0471 | 7/31/2023
Human Cells, Tissues, and Cellular and Tissue-Based Products: Establishment Registration and Listing; Eligibility Determination for Donors; and Current Good Tissue Practice | 0910-0543 | 7/31/2023
Recommendations to Reduce the Risk of Transfusion-Transmitted of Infection in Whole Blood and Blood Components; Agency Guidance | 0910-0681 | 7/31/2023
Food Labeling; Gluten-Free Labeling of Fermented or Hydrolyzed Foods | 0910-0817 | 8/31/2023
Healthcare Provider Perception of Boxed Warning Information Survey | 0910-0890 | 8/31/2023

Dated: August 24, 2020.
Lowell J. Schiller,
Principal Associate Commissioner for Policy.

[FR Doc. 2020-19092 Filed 8-28-20; 8:45 am]

BILLING CODE 4164-01-P